FEDERAL RESERVE SYSTEM

[Change in Bank Control Notices; Acquisitions of Shares of a Bank or Bank Holding Company]

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 19, 2011.

A. Federal Reserve Bank of Minneapolis (Jacqueline G. King, Community Affairs Officer) 90 Hennepin Avenue, Minneapolis, Minnesota 55480-0291:

1. Robert Lynn Nelson, Cudjoe Key, Florida; to gain control of Kirkwood Bancorporation Co., and thereby indirectly acquire voting shares of Kirkwood Bank and Trust Company, both in Bismarck, North Dakota. In addition, Applicant has also applied to acquire voting shares of Kirkwood Bancorporation of Nevada, Inc., and thereby indirectly acquire voting shares of Kirkwood Bank of Nevada, both in Las Vegas, Nevada.

Board of Governors of the Federal Reserve System, June 29, 2011.
Robert deV. Frierson,
Deputy Secretary of the Board.

[FR Doc. 2011-16726 Filed 7-1-11; 8:45 am]

BILLING CODE 6210-01-P